DEPARTMENT OF COMMERCE

International Trade Administration

[A-580-601]

Top-of-the-Stove Stainless Steel Cooking Ware From the Republic of Korea: Final Results and Rescission, in Part, of Antidumping Duty Administrative Review

AGENCY: Import Administration, International Trade Administration, Department of Commerce.

ACTION: Notice of final results of Antidumping Duty Administrative Review.

SUMMARY: On February 6, 2002, the Department of Commerce (the Department) published the preliminary results of administrative review of the antidumping duty order on top-of-the-stove stainless steel cooking ware (cookware) from the Republic of Korea (Korea). The review covers twenty-six manufacturers of subject merchandise and the period January 1, 2000, through December 31, 2000. Based on our analysis of the comments received, we have made changes in the margin calculations. Therefore, the final results differ from the preliminary results. The final weighted-average dumping margins for the reviewed firms are listed below in the section entitled “Final Results of the Review.”

EFFECTIVE DATE: June 12, 2002.

FOR FURTHER INFORMATION CONTACT: Ron Trentham or Tom Futtner, AD/CVD Enforcement, Office 4, Group II, Import Administration, International Trade Administration, U.S. Department of Commerce, 14th Street and Constitution Ave., NW, Washington, DC 20230; telephone: (202) 482-6320 or 482-3814, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR Part 351 (2001).

Background

On February 6, 2002, the Department published the preliminary results of administrative review of the antidumping duty order on cookware from Korea. See Top-of-the-Stove Stainless Steel Cooking Ware from the Republic of Korea: Preliminary Results and Rescission, in Part, of Antidumping Duty Administrative Review, 67 FR 5563 (February 6, 2002) (Preliminary Results). This review covers twenty-six manufacturers of subject merchandise: Daelim Trading Co., Ltd. (Daelim), Dong Won Metal Co., Ltd. (Dong Won), Chefline Corporation, Sam Yeung Ind. Co., Ltd., Namyang Kitchenflower Co., Ltd., Kyung-Dong Industrial Co., Ltd., Ssang Yong Ind. Co., Ltd., O. Bok Stainless Steel Co., Ltd., Dong Hwa Stainless Steel Co., Ltd., Il Shin Co., Ltd., Hai Dong Stainless Steel Ind. Co., Ltd., Han II Stainless Steel Ind. Co., Ltd., Bae Chin Metal Ind. Co., East One Co., Ltd., Charming Art Co., Ltd., Poong Kang Ind. Co., Ltd., Won Jin Ind. Co., Ltd., Wonkwang Inc., Sungjin International Inc., Sae Kwang Aluminum Co., Ltd., Hanil Stainless Steel Ind. Co., Ltd., Seshin Co., Ltd., Pionix Corporation, East West Trading Korea, Ltd., Clad Co., Ltd., and B.Y. Enterprise, Ltd. The period of review (POR) is January 1, 2000, through December 31, 2000.

We invited parties to comment on our Preliminary Results of Review. On March 8, 2002, we received case briefs from the Stainless Steel Cookware Committee (the petitioner), Dong Won, and Daelim. On March 15, 2002, we received rebuttal briefs from the petitioner, Daelim and Dong Won.

(The Department has conducted this administrative review in accordance with section 751 of the Act).

Scope of Review

The merchandise subject to this antidumping order is cookware from Korea. The subject merchandise is all non-electric cooking ware of stainless steel which may have one or more layers of aluminum, copper or carbon steel for more even heat distribution. The subject merchandise includes skillets, frying pans, omelette pans, saucepans, double boilers, stock pots, dutch ovens, casseroles, steamers, and other stainless steel vessels, all for cooking on stove top burners, except tea kettles and fish poachers. Excluded from the scope of the order are stainless steel oven ware and stainless steel kitchen ware. The subject merchandise is currently classifiable under Harmonized Tariff Schedule (HTS) item numbers 7323.93.00 and 9604.00.00. The HTS item numbers are provided for convenience and Customs purposes only. The written description remains dispositive.

The Department has issued several scope clarifications for this order. The Department found that certain stainless steel pasta and steamer inserts (63 FR 41545, August 4, 1998), certain stainless steel eight-cup coffee percolators (58 FR 11209, February 24, 1993), and certain stainless steel stock pots and covers are within the scope of the order (57 FR 57420, December 4, 1992). Moreover, as a result of a changed circumstances review, the Department revoked the order on Korea in part with respect to certain stainless steel camping ware (1) made of single-ply stainless steel having a thickness no greater than 6.0 millimeters; and (2) consisting of 1.0, 1.5, and 2.0 quart saucepans without handles and with lids that also serve as fry pans (62 FR 3662, January 24, 1997).

Partial Rescission of Review

In our Preliminary Results, we determined that the following companies made no shipments of subject merchandise to the United States during the POR: Pionex Corporation, Namyang Kitchenflower Co., Ltd., Ssang Yong Ind. Co., Ltd., Poong Kang Ind. Co., Ltd., Sungjin International Inc., Seshin Co., Ltd., O. Bok Stainless Steel Co., Ltd., Hai Dong Stainless Steel Ind. Co., Ltd., Bae Chin Metal Ind. Co., and Dong Hwa Stainless Steel Co., Ltd. See Preliminary Results, 67 FR at 5564. Because we received no comments from interested parties on our preliminary decision to rescind the review with respect to the above companies, we have determined that no changes to our decision to rescind are warranted for purposes of these final results. Therefore, we are rescinding this review with respect to these manufacturers/exporters.

Facts Available (FA)

In accordance with section 776 of the Act, we have determined that the use of adverse FA is warranted for 14 companies for these final results of review.

1. Application of FA

Section 776(a) of the Act provides that, if an interested party withholds information that has been requested by the Department, fails to provide such information in a timely manner or in the form or manner requested, significantly impedes a proceeding under the antidumping statute, or provides information which cannot be verified, the Department shall use, subject to sections 782(d) and (e), facts otherwise available in reaching the applicable determination. In this review, as described in detail below, the companies referenced below failed to provide the necessary information in the form and manner requested. Thus, pursuant to section 776(a) of the Act, the Department is required to apply, subject to section 782(d), facts otherwise available.

Section 782(d) of the Act provides that, if the Department determines that a response to a request for information does not comply with the request, the Department will inform the person submitting the response of the nature of the deficiency and shall, to the extent practicable, provide that person the opportunity to remedy or explain the deficiency. If that person submits further information that continues to be unsatisfactory, or this information is not submitted within the applicable time limits, the Department may, subject to section 782(e), disregard all or part of the original and subsequent responses, as appropriate.

Pursuant to section 782(e) of the Act, notwithstanding the Department's determination that the submitted information is “deficient” under section 782(d) of the Act, the Department shall not decline to consider such information if all of the following requirements are satisfied: (1) The information is submitted by the established deadline; (2) the information can be verified; (3) the information is not so incomplete that it cannot serve as a reliable basis for reaching the applicable determination; (4) the interested party has demonstrated that it acted to the best of its ability; and (5) the information can be used without undue difficulties.

The Department has concluded that, because Chefline Corporation, Sam Yeung Ind. Co., Ltd., Kyung-Dong Industrial Co., Ltd., II Shin Co., Ltd., Han II Stainless Steel Ind. Co., Ltd., East One Co., Ltd., Charming Art Co., Ltd., Won Jin Ind. Co., Ltd., Wonkwang Inc., Sae Kwang Alumnium Co., Ltd., Hanil Stainless Steel Ind. Co., Ltd., East West Trading Korea, Ltd., Clad Co., Ltd., and R.Y. Enterprise, Ltd., failed to respond to the Department's questionnaire, a determination based on total FA is warranted for these companies. For a detailed discussion of this analysis, see Preliminary Results, 67 FR at 5565.

2. Section of FA

In selecting from among the facts otherwise available, section 77b(b) of the Act authorizes the Department to use an adverse inference if the Department finds that an interested party failed to cooperate by not acting to the best of its ability to comply with the request for information. See, e.g., Certain Welded Carbon Steel Pipes and Tubes From Thailand; Final Results of Antidumping Duty Administrative Review, 62 FR 53808, 53819-20 (October 16, 1997). In the Preliminary Results, the Department determined that because the 14 manufacturers/exporters listed above, wholly failed to respond to the Department's questionnaire, they did not act to the best of their respective abilities, and therefore an adverse inference is warranted in applying FA for these companies.

For the final results, no interested party comments were submitted regarding this issue and we continue to find that the failure of the 14 manufacturers/exporters listed above to respond to the Department's questionnaire in this review demonstrates that these entities failed to cooperate by not acting to the best of their ability. Thus, consistent with the Department's practice in cases where a respondent fails to respond to the Department's questionnaire, in selecting FA for the 14 manufacturers/exporters listed above, an adverse inference is warranted. For a discussion of the application of an adverse inference in this case, see Preliminary Results, 67 FR at 5564-5565.

As adverse FA, we are assigning the highest rate determined for any respondent in any segment of this proceeding. This rate is 31.23 percent. See Final Determination of Sales at Less Than Fair Value; Certain Stainless Steel Cookware from Korea, 51 FR 42873 (November 26, 1986). For a discussion on corroboration of the 31.23 percent FA rate and for a general discussion of the relevance of the selected FA rate for all non-cooperating respondents, see Preliminary Results, 67 FR at 5565.

Analysis of Comments Received

All issues raised in the case and rebuttal briefs by parties to this administrative review are addressed in the Issues and Decision Memorandum (Decision Memorandum) from Bernard T. Carreau, Deputy Assistant Secretary, Import Administration, to Faryar Shirzad, Assistant Secretary for Import Administration, dated June 6, 2002, which is hereby adopted by this notice. A list of the issues which parties have raised and to which we have responded, all of which are in the Decision Memorandum, is attached to this notice as an Appendix. Parties can find a complete discussion of all issues raised in this review and the corresponding recommendations in this public memorandum which is on file in the Central Records Unit, room B-099 of the main Department building. In addition, a complete version of the Decision Memorandum can be accessed directly on the Web at http://ia.ita.doc.gov. the paper copy and electronic version of the Decision Memorandum are identical in content.

Changes Since the Preliminary Results

Based on our analysis of comments received, we have made certain changes in the margin calculations. These changes are discussed, where appropriate, in the relevant sections of the Decision Memorandum.

Daelim

1. We included indirect selling expenses in the calculation of constructed value. See Decision Memorandum at comment 1.

2. We rounded all variable cost of manufacturing values to the third decimal point. See Decision Memorandum at comment 2.

3. In accordance with section 772(c)(1)(C) of the Act, we added to the U.S. price the amount of countervailing duty imposed on the subject merchandise to offset an export subsidy. See Calculation Memorandum for Daelim for the Final Results of the 2000 Administrative Review (June 6, 2002).

Dong Won

1. We recalculated constructed export price profit. See Decision Memorandum at comment 4.

2. We have denied Dong Won's duty drawback claim. See Decision Memorandum at comment 5.

3. In accordance with section 772(c)(1)(C) of the Act, we added to the U.S. Price the amount of countervailing duty imposed on the subject merchandise to offset an export subsidy. See Calculation Memorandum for Dong Won for the Final Results of the 2000 Administrative Review (June 6, 2002).

Final Results of Review

We determine that the following weighted-average percentage margins exist for the period January 1, 2000, through December 31, 2000:

Manufacturer/exporter | Margin (percent)
Dong Won Metal Co., Ltd | 1.68
Daelim Trading Co., Ltd | 1.26
Chefline Corporation | 31.23
Sam Yeung Ind. Co., Ltd | 31.23
Kyung-Dong Industrial Co., Ltd | 31.23
II Shin Co., Ltd | 31.23
Han II Stainless Steel Ind. Co., Ltd | 31.23
East One Co., Ltd | 31.23
Charming Art Co., Ltd | 31.23
Won Jin Ind. Co., Ltd | 31.23
Wonkwang Inc | 31.23
Sae Kwang Aluminum Co., Ltd | 31.23
Hanil Stanless Steel Ind. Co., Ltd | 31.23
East West Trading Korea Ltd | 31.23
Clad Co., Ltd | 31.23
B.Y. Enterprise, Ltd | 31.23

Assessment

The Department shall determine, and the U.S. Customs Service shall assess, antidumping duties on all appropriate entries. The Department will issue appraisement instructions directly to the Customs Service. In accordance with 19 CFR 351.212(b)(1), we have calculated for Daelim and Dong Won importer-specific assessment rates based on the ratio of the total amount of antidumping duties calculated for importer-specific sales to the total entered value of the same sales. For the companies for whom we applied FA, we based the assessment rate on the facts available margin percentage. Where the importer-specific assessment rate is above de minimis, we will instruct Customs to assess antidumping duties on that importer's entries of subject merchandise.

Cash Deposit Requirements

The following deposit requirements will be effective upon publication of this notice of final results of this administrative review for all shipments of cookware from Korea entered, or withdrawn from warehouse, for consumption on or after publication date of the final results of this administrative review, as provided by section 751(a)(1) of the Act: (1) The cash deposit rate for the reviewed companies will be the rate established in the final results of this administrative review, except if the rate is less than 0.5 percent ad valorem and, therefore, de minimis, no cash deposit will be required; (2) for exporters not covered in this review, but covered in the original less-than-fair-value (LTFV) investigation or a previous review, the cash deposit rate will continue to be the company-specific rate published in the most recent period; (3) if the exporter is not a firm covered in this review, a previous review, or the original LTFV investigation, but the manufacturer is, the cash deposit rate will be the rate established for the most recent period for the manufacturer of the merchandise; and (4) if neither the exporter nor the manufacturer is a firm covered in this or any previous reviews or the LTFV investigation, the cash deposit rate will be 8.10 percent, the “all-others” rate established in the LTFV investigation. These deposit requirements, when imposed, shall remain in effect until publication of the final results of the next administrative review.

Notification

This notice serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 77(I) of the Act.

Dated: June 6, 2002.
Faryar Shirzad,
Assistant Secretary for Import Administration

Appendix—Issues in Decision Memorandum

Comments and Responses:

1. Constructed Value (CV) Calculation for Daelim

2. Difference in Merchandise (DIFMER) Percentages for Daelim

3. Dong Won's Model Matching Program

4. Ministerial Error in Calculation of Dong Won's Constructed Export Price (CEP) Profit

5. Duty Drawback Adjustment for Dong Won

6. Dong Won's Cost of Production (COP)

[FR Doc. 02-14834 Filed 6-11-02; 8:45 am]

BILLING CODE 3510-DS-M